DEPARTMENT OF THE INTERIOR

National Park Service

[NPS-WASO-NAGPRA-NPS0032396; PPWOCRADN0-PCU00RP14.R50000]

Notice of Intent To Repatriate Cultural Items: Peabody Museum of Archaeology and Ethnology, Harvard University, Cambridge, MA; Correction

AGENCY: National Park Service, Interior.

ACTION: Notice; correction.

SUMMARY: The Peabody Museum of Archaeology and Ethnology, Harvard University has corrected a Notice of Intent to Repatriate published in the Federal Register on July 30, 2007. This notice corrects the number of unassociated funerary objects. Lineal descendants or representatives of any Indian Tribe or Native Hawaiian organization not identified in this notice that wish to claim these cultural items should submit a written request to the Peabody Museum of Archaeology and Ethnology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Peabody Museum of Archaeology and Ethnology at the address in this notice by September 10, 2021.

FOR FURTHER INFORMATION CONTACT: Patricia Capone, Peabody Museum of Archaeology and Ethnology, Harvard University, 11 Divinity Avenue, Cambridge, MA 02138, telephone (617) 496-3702, email pcapone@fas.harvard.edu.

SUPPLEMENTARY INFORMATION: Notice is here given in accordance with the Native American Graves Protection and Repatriation Act (NAGPRA), 25 U.S.C. 3005, of the intent to repatriate cultural items under the control of the Peabody Museum of Archaeology and Ethnology, Harvard University, Cambridge, MA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

This notice corrects the number of unassociated funerary objects published in a Notice of Intent to Repatriate in the Federal Register (72 FR 41522-41524, July 30, 2007). [The cultural affiliation determinations made in this Notice of Intent to Repatriate were subsequently corrected in the Federal Register (73 FR 58619-58620, October 7, 2008, and 77 FR 46114, August 2, 2012)]. Further consultation and inventory review with the Delaware Nation, Oklahoma; Delaware Tribe of Indians; and the Stockbridge Munsee Community, Wisconsin, yielded additional evidence of cultural affiliation for several unassociated funerary objects. A detailed re-inventory of cultural items from New Jersey held by the Peabody Museum of Archaeology and Ethnology revealed additional unassociated funerary objects, produced more specific site information for some unassociated funerary objects, and showed that two previously reported cultural items did not meet the definition of unassociated funerary objects. Transfer of control of the items in this correction notice has not occurred.

Correction

In the Federal Register (72 FR 41523, July 30, 2007), column 1, paragraph 2 is corrected by substituting the following paragraph:

The 63 cultural items are stone effigy pendants, glass and shell beads, ceramic sherds, projectile points, bone fragments, metal bells, one worked stone, one ceramic pipe, and one pipe stem fragment.

In the Federal Register (72 FR 41523, July 30, 2007), column 2, paragraph 2 is corrected by substituting the following paragraph:

In 1895, four cultural items were recovered from the Lalor Field site in Trenton, Mercer County, NJ, by Ernest Volk during a Peabody Museum of Archaeology and Ethnology expedition led by Mr. Volk. Three of the cultural items were accessioned into the Museum's collection in 1895 but one of the cultural items was not accessioned into the Museum's collection until 1952, as a gift of C.C. Abbott. The four unassociated funerary objects are three lots of ceramic sherds and one ceramic pot base.

In the Federal Register (72 FR 41523, July 30, 2007), column 2, paragraph 4 is corrected by substituting the following paragraph:

In 1909, 22 cultural items were recovered from the A.K. Rowan Farm site and “burial place near old house” in Trenton, Mercer County, NJ, by Ernest Volk and R.E. Merwin during a Peabody Museum of Archaeology and Ethnology expedition led by Mr. Volk and Mr. Merwin. The 22 unassociated funerary objects are six projectile points, one stone scraper, one set of glass beads, five lots of ceramic sherds, two worked bone fragments, three metal bells, one worked stone, one stone effigy pendant depicting a face, one kaolin pipe stem fragment, and one ground stone pendant.

In the Federal Register (72 FR 41523, July 30, 2007), column 2, paragraph 6, sentence 1 is corrected by substituting the following sentence:

In 1911, 10 cultural items were recovered from an “Indian Burying Ground” south of the Riverview Cemetery, on the south shore of the Delaware River, in Trenton, Mercer County, NJ, by Frank Wachter.

In the Federal Register (72 FR 41523, July 30, 2007), column 2, paragraph 6, sentence 3 is corrected by substituting the following sentence:

The 10 unassociated funerary objects are one set of glass beads, one kaolin pipe, five shell bird effigy ornaments, one shell bead, one worked wood fragment, and one lot of metal bracelet fragments.

In the Federal Register (72 FR 41523, July 30, 2007), column 3, paragraph 1 is corrected by deleting the following paragraph:

Between 1888 and 1917, three cultural items were recovered from the Lalor Field site in Trenton, Mercer County, NJ, by C.C. Abbott and Ernest Volk. They were donated to the Peabody Museum of Archaeology and Ethnology by Mr. Abbott at an unknown date and accessioned into the Museum's collection in 1952. The three unassociated funerary objects are three lots of ceramic sherds.

In the Federal Register (72 FR 41523, July 30, 2007), column 3, paragraph 3 is corrected by substituting the following paragraph:

The cultural item most likely dates to the Middle or Late Woodland Periods (A.D. 0-1500), as suggested by the decoration and/or fabric of the sherds.

In the Federal Register (72 FR 41523, July 30, 2007), column 3, paragraph 3, the following paragraphs are added to the end of paragraph 3:

In 1872, six cultural items were recovered from graves in Trenton, Mercer County, NJ, by C.C. Abbott and F.W. Putnam. They were donated to the Peabody Museum of Archaeology and Ethnology by the Peabody Museum Salem (now the Peabody Essex Museum) through Ernest Dodge in 1952. The unassociated funerary objects are one ceramic pipe stem, one ceramic pipe bowl fragment, two mortars, and two pestles.

The ceramic pipe stem and ceramic pipe bowl fragment most likely date to the Late Woodland Period (A.D. 900-1500), as suggested by the decoration on the pipe bowl fragment. Consultation, oral tradition, archeological, and historical evidence indicates that the two mortars and two pestles are typically used as “paint pots” for applying pigment to the face of the deceased, a practice that persisted from at least the Late Woodland to the Historic Period and present day (A.D. post-900).

In 1895, 15 cultural items were recovered from the Lowland site in Trenton, Mercer County, NJ, by Ernest Volk during a Peabody Museum of Archaeology and Ethnology expedition led by Mr. Volk. Five of the cultural items were accessioned into the Museum's collection in 1895 but 10 of the cultural items were not accessioned into the Museum's collection until 1952, as a gift of C.C. Abbott. The 15 unassociated funerary objects are nine lots of ceramic sherds, five projectile points, and one chipped stone.

The cultural items most likely date to the Middle or Late Woodland Periods (A.D. 0-1500), as suggested by the decoration and/or fabric of the ceramic sherds and the shapes of the projectile points.

In the Federal Register (72 FR 41523, July 30, 2007), column 3, paragraph 4, sentence 1 is corrected by substituting the following sentence:

Museum documentation indicates that the 63 cultural items described above were recovered from burial contexts.

In the Federal Register (72 FR 41523, July 30, 2007), column 3, paragraph 5, sentence 1 is corrected by substituting the following sentence:

Officials of the Peabody Museum of Archaeology and Ethnology, Harvard University have determined that:

• Pursuant to 25 U.S.C. 3001(3)(B), the 63 cultural items described above are reasonably believed to have been placed with or near individual human remains at the time of death or later as part of the death rite or ceremony and are believed, by a preponderance of the evidence, to have been removed from a specific burial site of a Native American individual.

Additional Requestors and Disposition

Lineal descendants or representatives of any Indian Tribe or Native Hawaiian organization not identified in this notice that wish to claim these cultural items should submit a written request with information in support of the claim to Patricia Capone, Peabody Museum of Archaeology and Ethnology, Harvard University, 11 Divinity Avenue, Cambridge, MA 02138, telephone (617) 496-3702, email pcapone@fas.harvard.edu, by September 10, 2021. After that date, if no additional claimants have come forward, transfer of control of the unassociated funerary objects to the Delaware Nation, Oklahoma; Delaware Tribe of Indians; and the Stockbridge Munsee Community, Wisconsin may proceed.

The Peabody Museum of Archaeology and Ethnology, Harvard University is responsible for notifying the Delaware Nation, Oklahoma; Delaware Tribe of Indians; and the Stockbridge Munsee Community, Wisconsin that this notice has been published.

Dated: July 28, 2021.
Melanie O'Brien,
Manager, National NAGPRA Program.

[FR Doc. 2021-17060 Filed 8-10-21; 8:45 am]

BILLING CODE 4312-52-P